DEPARTMENT OF HEALTH AND HUMAN SERVICES

Health Resources and Services Administration

Agency Information Collection Activities: Submission to OMB for Review and Approval; Public Comment Request; Scholarships for Disadvantaged Students, OMB No. 0915-0149—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR have been provided to OMB. OMB will accept further comments from the public during the review and approval period. OMB may act on HRSA's ICR only after the 30 day comment period for this Notice has closed.

DATES: Comments on this ICR should be received no later than December 5, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Scholarships for Disadvantaged Students Program OMB No. 0915-0149—Revision.

Abstract: HRSA seeks to update the Scholarships for Disadvantaged Students (SDS) program-specific form to collect 3 years of student data instead of 1 year of student data from SDS program applicants. This will assist the agency in making funding decisions for SDS program awards. The form will reflect programmatic changes to the SDS program, made after consideration of the comments received in response to the request for public comment, published at 84 FR 23571, which will be finalized in the forthcoming SDS Policy Change Federal Register Notice.

Need and Proposed Use of the Information: The purpose of the SDS Program is to make grant awards to eligible schools to provide scholarships to full-time, financially needy students from disadvantaged backgrounds enrolled in health professions programs. To qualify for participation in the SDS program, a school must be carrying out a program for recruiting and retaining students from disadvantaged backgrounds, including students who are members of racial and ethnic minority groups (section 737(d)(1)(B) of the Public Health Service (PHS) Act). To meet this requirement, a school must show that at least 20 percent of the school's full-time enrolled students and graduates are from a disadvantaged background. HRSA previously required schools to demonstrate this percentage by submitting 1 year of data; a school must now provide this data for the most recent 3 year period.¹ The proposed revisions to the SDS program-specific form will require applicants to provide the percentage of full-time enrolled students and graduates from a disadvantaged background over a 3-year period, consistent with this policy change.

¹ The SDS program will allow an exception for newly established schools; that is, schools that have not been in existence long enough to have three years of enrollment and graduation data. However, these schools will be required to demonstrate that at least 20 percent of the school's full-time students are students from disadvantaged backgrounds, with at least two years of student enrollment, and at least one year of graduation data.

An additional change to the SDS program is that a 3 year average, instead of a 1 year average, will be used to calculate priority points, which are provided to eligible schools based on the proportion of graduating students going into primary care, the proportion of underrepresented minority students, and the proportion of graduates working in medically underserved communities (section 737(c) of the PHS Act). The proposed revisions to the SDS program-specific form will require applicants to provide a 3 year average for these percentages, consistent with this policy change, as opposed to the 1 year of data previously required.

Likely Respondents: Institutions that apply for SDS program awards.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
SDS Application Program Specific form | 323 | 1 | 323 | 31 | 10,013
Total | 323 |  | 323 |  | 10,013

From the last submission, the number of respondents has been updated with more recent application figures. There were 400 applications received for the 2012 application cycle and 323 applications from the 2016 cycle.

Maria G. Button,
Director, Executive Secretariat.

[FR Doc. 2019-24111 Filed 11-4-19; 8:45 am]

BILLING CODE 4165-15-P